FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201412.

Agreement Name: MSC/Ellerman Space Charter Agreement.

Parties: MSC Mediterranean Shipping Company SA; Ellerman City Liners Ltd.

Filing Party: Wayne Rohde; Cozen O'Connor.

Synopsis: The agreement authorizes MSC to charter space to Ellerman in the trade between ports in Sweden, Poland, Lithuania, Germany, the United Kingdom, Belgium and France on the one hand, and ports on the East Coast of the United States on the other hand.

Proposed Effective Date: 12/1/2023.

Location: https://www2.fmc.gov/FMC.Agreements.Web/Public/AgreementHistory/84531.

Dated: December 1, 2023.
Carl Savoy,
Federal Register Alternate Liaison Officer.

[FR Doc. 2023-26767 Filed 12-5-23; 8:45 am]

BILLING CODE 6730-02-P